DEPARTMENT OF ENERGY

10 CFR Parts 429 and 430

[Docket Number EERE-2010-BT-STD-0011]

RIN 1904-AC22

Energy Conservation Program for Consumer Products: Energy Conservation Standards for Residential Furnace Fans

AGENCY: Office of Energy Efficiency and Renewable Energy, Department of Energy.

ACTION: Notice of extension of public comment period.

SUMMARY: On October 25, 2013, the U.S. Department of Energy (DOE) published a notice of proposed rulemaking (NOPR) regarding energy conservation standards for residential furnace fans, with a comment period that was scheduled to close December 24, 2013. This document announces an extension of the time period for submitting comments on the NOPR. The comment period is extended 30 days.

DATES: The comment period for the NOPR regarding energy conservation standards for residential furnace fans published on October 25, 2013 (78 FR 64067) is extended to January 23, 2014.

ADDRESSES: Any comments submitted must identify the NOPR for Energy Conservation Standards for Residential Furnace Fans, and provide docket number EERE-2010-BT-STD-0011 and/or regulatory information number (RIN) 1904-AC22. Comments may be submitted using any of the following methods:

1. Federal eRulemaking Portal: www.regulations.gov. Follow the instructions for submitting comments.

2. Email: FurnFans-2010-STD-0011@ee.doe.gov. Include the docket number and/or RIN in the subject line of the message. Submit electronic comments in Word Perfect, Microsoft Word, PDF, or ASCII file format, and avoid the use of special characters or any form of encryption.

3. Postal Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024.

Telephone: (202) 586-2945. If possible, please submit all items on a CD, in which case it is not necessary to include printed copies.

Written comments regarding the burden-hour estimates or other aspects of the collection-of-information requirements contained in this proposed rule may be submitted to Office of Energy Efficiency and Renewable Energy through the methods listed above and by email to Chad_S._Whiteman@omb.eop.gov.

Docket: The docket is available for review at www.regu lations.gov, including Federal Register notices, framework documents, public meeting attendee lists and transcripts, comments, and other supporting documents/materials. All documents in the docket are listed in the www.regulations.gov index. However, not all documents listed in the index may be publicly available, such as information that is exempt from public disclosure.

A link to the docket Web page can be found at: http://www1.eere.energy.gov/buildings/appliance_standards/rulemaking.aspx/ruleid/41. This Web page contains a link to the docket for this notice on the www.regulations.gov site. The www.regulations.gov Web page contains simple instructions on how to access all documents, including public comments, in the docket.

For information on how to submit a comment or review other public comments and the docket, contact Ms. Brenda Edwards at (202) 586-2945 or by email: Brenda.Edwards@ee.doe.gov.

FOR FURTHER INFORMATION CONTACT: Mr. Ronald Majette, U.S. Department of Energy, Office of Energy Efficiency and Renewable Energy, Building Technologies Office, EE-5B, 1000 Independence Avenue SW., Washington, DC, 20585-0121. Telephone: (202) 586-7935. Email: residential_furnace_fans@ee.doe.gov.

Ms. Kavita Vaidyanathan, U.S. Department of Energy, Office of the General Counsel, GC-71, 1000 Independence Avenue SW., Washington, DC, 20585-0121. Telephone: (202) 586-0669. Email: Kavita.Vaidyanathan@hq.doe.gov.

SUPPLEMENTARY INFORMATION: On October 25, 2013, DOE published a NOPR in the Federal Register (78 FR 64067) to make available and invite comments on the proposed rule regarding energy conservation standards for residential furnace fans. That notice set a deadline for the submission of written comment by December 24, 2013, and comments were also accepted at a public meeting held at DOE Headquarters on December 3, 2013. Several stakeholders requested an extension of the comment period. These stakeholders stated the additional time is necessary for interested parties to consider and respond to the proposed rule and public meeting presentation, in order to submit meaningful and useful comments.

After careful consideration of the multiple requests for more time to develop comments, DOE has determined that an extension of the public comment period is appropriate and in the public interest based on the foregoing reasoning. Accordingly, DOE is hereby extending the comment period and will consider any comments received by January 23, 2014.

Issued in Washington, DC, on December 18, 2013.
Kathleen B. Hogan,
Deputy Assistant Secretary for Energy Efficiency, Energy Efficiency and Renewable Energy.

[FR Doc. 2013-30726 Filed 12-23-13; 8:45 am]

BILLING CODE 6450-01-P